DEPARTMENT OF THE TREASURY

Internal Revenue Service

Open Meeting of the Area 3 Taxpayer Advocacy Panel (Including the States of Florida, Georgia, Alabama, Mississippi, Louisiana, Arkansas, and the Territory of Puerto Rico)

AGENCY: Internal Revenue Service (IRS), Treasury.

ACTION: Notice of meeting.

SUMMARY: An open meeting of the Area 3 Taxpayer Advocacy Panel will be conducted. The Taxpayer Advocacy Panel is soliciting public comment, ideas, and suggestions on improving customer service at the Internal Revenue Service.

DATES: The meeting will be held Monday, March 9, 2009.

FOR FURTHER INFORMATION CONTACT: Sallie Chavez at 1-888-912-1227, or (954) 423-7979.

SUPPLEMENTARY INFORMATION: Notice is hereby given pursuant to Section 10(a)(2) of the Federal Advisory Committee Act, 5 U.S.C. App. (1988) that a meeting of the Area 3 Taxpayer Advocacy Panel will be held Monday, March 9, 2009, at 12:30 p.m. Eastern Time. You can submit written comments to the panel by faxing the comments to (954) 423-7975, or by mail to Taxpayer Advocacy Panel, Room 340, 1000 South Pine Island Road, Plantation, FL 33324, or you can contact us at http://www.improveirs.org. This meeting is not required to be open to the public, but because we are always interested in community input we will accept public comments. Please contact Sallie Chavez at 1-888-912-1227 or (954) 423-7979 for more information.

The agenda will include the following: Various IRS issues.

Dated: January 13, 2009.
Shawn F. Collins,
Acting Director, Taxpayer Advocacy Panel.

[FR Doc. E9-1336 Filed 1-22-09; 8:45 am]

BILLING CODE 4830-01-P